DEPARTMENT OF TRANSPORTATION

Federal Aviation Administration

14 CFR Part 39

[Docket No. 2004-NE-11-AD; Amendment 39-13517; AD 2004-05-22]

RIN 2120-AA64

Airworthiness Directives; Rolls-Royce Deutschland (RRD) (Formerly Rolls-Royce, plc) TAY 611-8, TAY 620-15, TAY 650-15, and TAY 651-54 Series Turbofan Engines; Correction

AGENCY: Federal Aviation Administration, DOT.

ACTION: Final rule; correction.

SUMMARY: This document makes a correction to Airworthiness Directive (AD) 2004-05-22. That AD applies to certain RRD TAY 611-8, TAY 620-15, TAY 650-15, and TAY 651-54 series turbofan engines with ice-impact panels installed in the low pressure (LP) compressor case. We published AD 2004-05-22 in the Federal Register on March 10, 2004, (69 FR 11305). The AD number in the Amendatory Language is incorrect. This document corrects that AD number. In all other respects, the original document remains the same.

EFFECTIVE DATE: Effective March 25, 2004.

FOR FURTHER INFORMATION CONTACT: Jason Yang, Aerospace Engineer, Engine Certification Office, FAA, Engine and Propeller Directorate, 12 New England Executive Park, Burlington, MA 01803-5299; telephone (781) 238-7747; fax (781) 238-7199.

SUPPLEMENTARY INFORMATION: A final rule AD, FR Doc, 04-5263 that applies to certain RRD TAY 611-8, TAY 620-15, TAY 650-15, and TAY 651-54 series turbofan engines with ice-impact panels installed in the LP compressor case, was published in the Federal Register on March 10, 2004, (69 FR 11305). The following correction is needed:

§ 39.13 [Corrected]

On page 11307, in the second column, in the Amendatory Language, in the third paragraph, in the first line, “200X-05-22” is corrected to read “2004-05-22”.

Issued in Burlington, MA, on March 18, 2004.
Mark C. Fulmer,
Acting Manager, Engine and Propeller Directorate, Aircraft Certification Service.

[FR Doc. 04-6577 Filed 3-24-04; 8:45 am]

BILLING CODE 4910-13-P